DEPARTMENT OF COMMERCE

National Oceanic and Atmospheric Administration

RIN 0648-XD642

Mid-Atlantic Fishery Management Council (MAFMC); Public Hearings

AGENCY: National Marine Fisheries Service (NMFS), National Oceanic and Atmospheric Administration (NOAA), Commerce.

ACTION: Notice of public hearings, request for comments.

SUMMARY: The Mid-Atlantic Fishery Management Council is developing an Amendment to the Atlantic Surfclam and Ocean Quahog Fishery Management Plan (called the Cost Recovery Amendment) that will address cost recovery in these fisheries, how stock status determination criteria are updated, and optimum yield ranges in the plan.

DATES: Written comments will be accepted from December 15, 2014 until January 16, 2015. Four public hearings will be held during this comment period. See SUPPLEMENTARY INFORMATION for dates, times, and locations.

ADDRESSES: Written comments may be sent by any of the following methods:

• Email to the following address: nmfs.gar.SCOQAmendment@noaa.gov; Include “Cost Recovery Amendment Comments” in the subject line;

• Mail or hand deliver to Dr. Christopher M. Moore, Executive Director, Mid-Atlantic Fishery Management Council, 800 North State Street, Suite 201, Dover, Delaware 19901. Mark the outside of the envelope “Cost Recovery Amendment Comments”; or

• Fax to (302) 674-5399.

• A Web form for submitting comments is available on the Council's Web site: http://www.mafmc.org/comments/costrecoveryamendment. The draft Amendment document may be obtained from the Council office at the previously provided address, or by request to the Council by telephone (302) 674-2331, or via the Internet at http://www.mafmc.org.

• Comments may also be provided verbally at any of the four public hearings. See SUPPLEMENTARY INFORMATION for dates, times, and locations.

FOR FURTHER INFORMATION CONTACT: Dr. Christopher M. Moore, Mid-Atlantic Fishery Management Council, 800 North State Street, Suite 201, Dover, DE 19901, (telephone (302) 674-2331). The Council's Web site, www.mafmc.org also has details on the meeting location, webinar listen-in access, and public hearing materials.

SUPPLEMENTARY INFORMATION:

Background

The Mid-Atlantic Fishery Management Council is developing this Amendment to the Atlantic Surfclam and Ocean Quahog Fishery Management Plan (called the Cost Recovery Amendment) to implement (1) measures for collecting fees and recovering costs associated with the management of the Atlantic surfclam and ocean quahog individual transferrable quota fisheries, (2) measures that facilitate incorporation of revised stock status determination criteria (i.e., biological reference points) for surfclams and ocean quahogs into the Fishery Management Plan, and (3) measures that would modify or eliminate the optimum yield (OY) ranges for surfclam and ocean quahog currently in the plan.

The Amendment contains a range of management alternatives under consideration by the Council, and their expected impacts as indicated by the Environmental Assessment. During the public comment period, which will include public hearings, the public may comment on any aspect of the draft Amendment. Following a review of the comments and further development of alternatives, the Council will choose preferred management measures and submit the Amendment to the Secretary of Commerce for approval and publication of proposed and final rules, both of which have additional comment periods.

Public Hearings

The dates and locations of the public hearings are as follows.

• Monday, January 12, 2015. 6:30 p.m. Hilton Garden Inn Providence Airport, 1 Thurber Street, Warwick, Rhode Island, 02886, telephone: (401) 734-9600;

• Tuesday, January 13, 2015. 6 p.m. Internet webinar, Connection information to be available at http://www.mafmc.org or by contacting the Council (see ADDRESSES above);

• Wednesday, January 14, 2015. 6:30 p.m. The Grand Hotel, 1045 Beach Avenue, Cape May, New Jersey 08204, telephone: (609) 884-5611; and

• Thursday, January 15, 2015. 6:00 p.m. Ocean Pines Branch Library, 11107 Cathell Road, Berlin, MD 21811, telephone: (410) 208-4014.

Special Accommodations

These public hearings are accessible to people with disabilities. Requests for sign language interpretation or other auxiliary aid should be directed to Kathy Collins, (302) 526-5253, at least 5 days prior to the meeting date.

Dated: November 21, 2014.
Tracey L. Thompson,
Acting Deputy Director, Office of Sustainable Fisheries, National Marine Fisheries Service.

[FR Doc. 2014-28065 Filed 11-26-14; 8:45 am]

BILLING CODE 3510-22-P